DEPARTMENT OF JUSTICE

National Institute of Corrections

Solicitation for a Cooperative Agreement: Document—Tools in Assessing Inmates' Risks & Needs: The Assessment Interview

AGENCY: National Institute of Corrections, U.S. Department of Justice.

ACTION: Solicitation for a Cooperative Agreement.

SUMMARY: The National Institute of Corrections (NIC) Jails Division is seeking applications for the development of a written guide on how to use interviews to determine inmate risks and needs within the jail environment more accurately. This document will be written in the context of inmate behavior management, which is described under Supplementary Information below.

This project will be for an 18-month period and will be carried out in conjunction with the NIC Jails Division. The awardee will work closely with NIC staff on all aspects of the project. To be considered, applicants must demonstrate, at a minimum: (1) In-depth knowledge of the purpose, functions, and operational complexities of local jails, (2) awareness of the diversity among local jails in terms of size, resources, and levels of sophistication, (3) in-depth knowledge of the six elements of inmate behavior management, as defined by NIC, and (4) ability to develop and write documents for publication.

DATES: Applications must be received by 4 p.m. EDT, Friday, June 24, 2011.

ADDRESSES: Mailed applications must be sent to: Director, National Institute of Corrections, 320 First Street, NW., Room 5002, Washington, DC 20534. Applicants are encouraged to use Federal Express, UPS, or similar service to ensure delivery by the due date.

Hand delivered applications should be brought to 500 First Street, NW., Washington, DC 20534. At the front desk, dial 7-3106, ext. 0 for pickup. Faxed or e-mailed applications will not be accepted. Electronic applications can only be submitted via http://www.grants.gov.

FOR FURTHER INFORMATION CONTACT: A copy of this announcement and links to the required application forms can be downloaded from the NIC Web site at http://www.nicic.gov.

All technical or programmatic questions concerning this announcement should be directed to Fran Zandi, Correctional Program Specialist, National Institute of Corrections, Jails Division. Ms. Zandi can be reached at 1-800-995-6423, ext. 71070 or by e-mail at fzandi@bop.gov.

SUPPLEMENTARY INFORMATION: NIC has identified six key elements in effectively managing inmate behavior in jails: (1) Assessing the risks and needs of each inmate at various points during his/her detention, (2) assigning inmates to appropriate housing, (3) meeting inmates' basic needs, (4) defining and conveying expectations for inmate behavior, (5) supervising inmates, and (6) keeping inmates productively occupied. If a jail fully and properly implements all six elements, it should experience a significant reduction in the negative inmate behaviors often experienced in jails, such as vandalism, violence, rule violations, and disrespectful behavior toward staff and other inmates. Applicants can obtain additional information on inmate behavior management by reviewing NIC's “Inmate Behavior Management: The Key to a Safe and Secure Jail.” This document is available at http://nicic.gov/Library/023882.

The NIC Jails Division offers training and technical assistance on inmate behavior management. It has also begun to develop a series of guides on implementing each of the six elements. This document will be part of the series.

Scope of Work

Document Length: The number of pages will be determined by content. The document will include appendices and a bibliography.

Document Audience: Jail administrators are the primary audience, but the document may also be used by other management staff. This guide is intended for use by jails of all sizes. In developing the document, the awardee must consider the diversity of jails in terms of size, available resources, and level of sophistication.

Document Distribution: NIC expects to distribute the document widely. It will be available on the NIC Web site and upon request free of charge through the NIC Information Center.

Document Content: The document will be a clear and practical guide for jail administrators. It will begin with a brief overview of the six elements of inmate behavior management, drawn from NIC's “Inmate Behavior Management: The Key to a Safe and Secure Jail.” This will be followed by a more detailed discussion of the first element, assessing inmates' risks and needs, including its importance in managing inmate behavior and its relationship to the other five elements. The document will then introduce the use of face-to-face interviews in determining inmates' risks and needs and explain the importance of interviewing to gaining more complete and accurate information. The document should also highlight anecdotal evidence or research that demonstrates the usefulness of interviews in risk-and-need assessment specifically and inmate behavior management generally.

Once this context is set, the document will address the following topics, at a minimum: (1) Specific interview techniques and tools, (2) the interview environment, (3) skills required of the interviewer, (4) strategies for developing staff skills in conducting interviews, with sample training tools, (5) policies, procedures, and required documentation related to interviews, with samples of each, (6) determination of reasonable standards for the interview process and its outcomes, and (7) assessment of the quality of the interview process and the achievement of outcomes, with sample assessment tools.

NIC Review: The awardee will send the following for NIC review and approval: initial framework for the document, first draft of the document, subsequent drafts based on NIC's suggested revisions, and the final draft.

Final Product: The awardee will produce a completed document that has received initial editing from a professional editor. The awardee must follow the Guidelines for Preparing and Submitting Manuscripts for Publication as found in the “General Guidelines for Cooperative Agreements,” which will be included in the award package. The awardee will deliver the final product to NIC in hard copy and on disk in Word format. NIC will be responsible for the final editing process and document design, but the awardee will remain available during this time to answer questions and to make revisions to the document. The awardee must also ensure that all products meet NIC's standards for accessibility and Section 508 compliance.

Meetings: The cooperative agreement awardee will attend an initial meeting with the NIC staff for a project overview and preliminary planning. This will take place shortly after the cooperative agreement is awarded and will be held in Washington, DC. The meeting will last one day.

The awardee should plan to meet with NIC staff up to four times during the course of the cooperative agreement. One meeting will be held in Washington, DC. The others may be held by WebEx or in person, depending on meeting content.

Applicant Conference

An applicant conference will be held on Friday, June 17, 2011 from 1 p.m. to 3 p.m. (EDT) by WebEx. The conference will give applicants the opportunity to meet with NIC project staff and ask questions about the project and the application procedures. Attendance at the conference is optional. Provisions will be made using WebEx technology (telephone and computer-based conferencing). The WebEx session requires applicants to have access to a telephone and computer. Applicants who plan to attend via WebEx should e-mail Fran Zandi, NIC Jails Division, Correctional Program Specialist at fzandi@bop.gov by 5 p.m. (EST) Monday, June 13, 2011.

Application Requirements: An application package must include OMB Standard Form 425, Application for Federal Assistance; a cover letter that identifies the audit agency responsible for the applicant's financial accounts as well as the audit period or fiscal year under which the applicant operates (e.g., July 1 through June 30); and an outline of projected costs with the budget and strategy narratives described in this announcement. The following additional forms must also be included: OMB Standard Form 424A, Budget Information—Non-Construction Programs; OMB Standard Form 424B, Assurances—Non-Construction Programs (both available at http://www.grants.gov); DOJ/FBOP/NIC Certification Regarding Lobbying, Debarment, Suspension and Other Responsibility Matters; and the Drug-Free Workplace Requirements (available at http://www.nicic.org/Downloads/PDF/certif-frm.pdf).

Applications should be concisely written, typed double spaced, and reference the NIC opportunity number and title referenced in this announcement. If you are hand delivering or submitting via Fed-Ex, please include an original and three copies of your full proposal (program and budget narrative, application forms, assurances, and other descriptions). The original should have the applicant's signature in blue ink. Electronic submissions will be accepted only via http://www.grants.gov.

The narrative portion of the application should include, at a minimum, a brief paragraph indicating the applicant's understanding of the project's purpose; a brief paragraph that summarizes the project goals and objectives; a clear description of the methodology that will be used to complete the project and achieve its goals; a statement or chart of measurable project milestones and timelines for the completion of each milestone; a description of the qualifications of the applicant organization; a resume for the principle and each staff member assigned to the project (including instructors) that documents relevant knowledge, skills, and abilities to carry out the project; and a budget that details all costs for the project, shows consideration for all contingencies for the project, and notes a commitment to work within the proposed budget. The narrative portion of the application should not exceed ten double-spaced typewritten pages, excluding attachments related to the credentials and relevant experience of staff.

Authority: Public Law 93-415.

Funds Available: NIC is seeking the applicant's best ideas regarding accomplishment of the scope of work and the related costs for achieving the goals of this solicitation. Funds may be used only for the activities that are linked to the desired outcome of the project. The funding amount should not exceed $20,000.

Eligibility of Applicants: An eligible applicant is any state or general unit of local government, private agency, educational institution, organization, individual, or team with expertise in the described areas. Applicants must have demonstrated ability to implement a project of this size and scope.

Review Considerations: Applications will be reviewed by a team of NIC staff. Among the criteria used to evaluate the applications are indication of a clear understanding of the project requirements; background, experience, and expertise of the proposed project staff, including any sub-contractors; effectiveness of the creative approach to the project; clear, concise description of all elements and tasks of the project, with sufficient and realistic time frames necessary to complete the tasks; technical soundness of project design and methodology; financial and administrative integrity of the proposal, including adherence to Federal financial guidelines and processes; a sufficiently detailed budget that shows consideration of all contingencies for this project and commitment to work within the budget proposed; and indication of availability to meet with NIC staff.

Note: NIC will not award a cooperative agreement to an applicant who does not have a Dun and Bradstreet Database Universal Number (DUNS) and is not registered in the Central Contractor Registry (CCR). Applicants can obtain a DUNS number at no cost by calling the dedicated toll-free DUNS number request line at 800-333-0505. Applicants who are sole proprietors should dial 866-705-5711 and select option #1.

Applicants may register in the CCR online at the CCR Web site: http://www.ccr.gov. Applicants can also review a CCR handbook and worksheet at this Web site.

Number of Awards: One.

NIC Opportunity Number: 11JA05.

Catalog of Federal Domestic Assistance Number: 16.601.

Executive Order 12372: This project is not subject to the provisions of Executive Order 12372.

Morris L. Thigpen,
Director, National Institute of Corrections.

[FR Doc. 2011-13394 Filed 5-27-11; 8:45 am]

BILLING CODE 4410-36-P